DEPARTMENT OF HOMELAND SECURITY

Coast Guard

33 CFR Part 117

[USCG-2009-0058]

Drawbridge Operating Regulations; Gulf Intracoastal Waterway, Houma, LA

AGENCY: Coast Guard, DHS.

ACTION: Notice of temporary deviation from regulations.

SUMMARY: The Commander, Eighth Coast Guard District, has issued a temporary deviation from the regulation governing the operation of the Louisiana State Route 316 (LA 316) pontoon span bridge, also known as the Bayou Blue Bridge, across Gulf Intracoastal Waterway, mile 49.8, west of Harvey Lock (WHL) at Houma in Lafourche Parish, Louisiana. This deviation provides for the bridge to remain closed to navigation for one day in order to perform scheduled maintenance.

DATES: This deviation is effective from 7 a.m. until 3:30 p.m. on Tuesday, March 24, 2009.

ADDRESSES: Documents indicated in this preamble as being available in the docket are part of docket USCG-2009-0058 and are available online at www.regulations.gov. They are also available for inspection or copying at two locations: the Docket Management Facility (M-30), U.S. Department of Transportation, West Building Ground Floor, Room W12-140, 1200 New Jersey Avenue, SE., Washington, DC 20590, between 9 a.m. and 5 p.m., Monday through Friday, except Federal holidays, and the office of the Eighth Coast Guard District, Bridge Administration Branch, Hale Boggs Federal Building, Room 1313, 500 Poydras Street, New Orleans, Louisiana, 70130-3310 between 7 a.m. and 3 p.m., Monday through Friday, except Federal holidays.

FOR FURTHER INFORMATION CONTACT: Phil Johnson, Bridge Administration Branch, telephone (504) 671-2128.

SUPPLEMENTARY INFORMATION: The Louisiana Department of Transportation has requested a temporary deviation in order to perform maintenance on the LA 316 Pontoon Span Bridge across Gulf Intracoastal Waterway at mile 49.8, WHL, at Houma, Louisiana. This maintenance is necessary to repair the pivot arm that is attached to the floating pontoon of the bridge. The pivot arm sustained damage from a vessel which recently collided with it. A winch truck will need to be positioned on the pontoon span to hold the pivot arm in proper alignment while it is cut, straightened and welded. In order for the winch truck to remain on the pontoon span, the span must be locked in the closed-to-navigation position. This temporary deviation will allow the bridge to remain closed to navigation position from 7 a.m. until 3:30 p.m. on Tuesday, March 24, 2009. During the closure the draw will not be able to open for emergencies. Currently, the draw opens on signal.

Navigation on the waterway consists of tugs with tows, commercial fishing vessels and recreational powerboats and sailboats. The bridge is a pontoon span bridge which prevents all marine traffic from transiting the site with it in the closed-to-navigation position. No alternate route is available. The Coast Guard has coordinated this closure with the Gulf Intracoastal Canal Association (GICA). The GICA representative indicated that the vessel operators will be able to schedule transits through the bridge such that operations will not significantly be hindered. Thus, it has been determined that this closure will not have a significant effect on these vessels. This closure is considered necessary for repair of the swing arm of the bridge for continued operation of the bridge.

In accordance with 33 CFR 117.35(e), the drawbridge must return to its regular operating schedule immediately at the end of the designated time period. This deviation from the operating regulations is authorized under 33 CFR 117.35.

Dated: February 4, 2009.
David M. Frank,
Bridge Administrator.

[FR Doc. E9-3569 Filed 2-19-09; 8:45 am]

BILLING CODE 4910-15-P